COMMITTEE FOR PURCHASE FROM PEOPLE WHO ARE BLIND OR SEVERELY DISABLED

Procurement List; Proposed Additions and Deletions

AGENCY: Committee for Purchase From People Who Are Blind or Severely Disabled.

ACTION: Proposed additions to and deletions from the Procurement List.

SUMMARY: The Committee is proposing to add products to the Procurement List that will be furnished by nonprofit agencies employing persons who are blind or have other severe disabilities, and deletes services previously furnished by such agencies.

DATES: Comments must be received on or before: April 21, 2019.

ADDRESSES: Committee for Purchase From People Who Are Blind or Severely Disabled, 1401 S Clark Street, Suite 715, Arlington, Virginia 22202-4149.

FOR FURTHER INFORMATION CONTACT: For further information or to submit comments contact: Michael R. Jurkowski, Telephone: (703) 603-2117, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the products listed below from nonprofit agencies employing persons who are blind or have other severe disabilities.

The following products are proposed for addition to the Procurement List for production by the nonprofit agencies listed:

Products

NSNs—Product Names:

MR 10777—Platters, Christmas, Red, Includes Shipper 20777

MR 10778—Platters, Christmas, Blue, Includes Shipper 20777

MR 11102—Bags, Roasting, Includes Shipper 21102

MR 11103—Pan, Roasting, Oval, Includes Shipper 21103

MR 11101—Paper, Parchment, Includes Shipper 21101

Mandatory Source of Supply: Winston-Salem Industries for the Blind, Inc., Winston-Salem, NC

Contracting Activity: Military Resale-Defense Commissary Agency

NSN—Product Name: 2815-01-464-5543—Parts Kit, Piston Assembly, HMMWV Engine

Mandatory Source of Supply: Georgia Industries for the Blind, Bainbridge, GA

Contracting Activity: Defense Logistics Agency, DLA Land and Maritime

Deletions

The following services are proposed for deletion from the Procurement List:

Services

Service Type: Supply and Warehousing Service

Mandatory for: The Dredge WHEELER Spare Parts Warehouse, 400 Edwards Avenue, Suite F, Harahan, LA

Mandatory Source of Supply: The Lighthouse for the Blind in New Orleans, Inc., New Orleans, LA

Contracting Activity: Dept of the Army, W40M RHCO-ATLANTIC USAHCA

Service Type: Janitorial Service

Mandatory for: U.S. Army Corps of Engineers, Col Francis R. Hunter USARC, San Pablo, CA, U.S. Army Corps of Engineers, PFC Robert H. Young Hall USARC, Vallejo, CA

Mandatory Source of Supply: Solano Diversified Services, Vallejo, CA

Contracting Activity: Dept of the Army, W6QM MICC FT MCCOY (RC)

Service Type: Janitorial/Custodial

Mandatory for: Social Security Administration District: 22 Morris Street- Office Building, Hackensack, NJ

Mandatory Source of Supply: North Jersey Friendship House, Inc., Hackensack, NJ

Contracting Activity: Health and Human Services, Department of

Patricia Briscoe,
Deputy Director, Business Operations (Pricing and Information Management).

[FR Doc. 2019-05530 Filed 3-21-19; 8:45 am]

BILLING CODE 6353-01-P